DEPARTMENT OF VETERANS AFFAIRS

Veterans' Rural Health Advisory Committee; Notice of Meeting

The Department of Veterans Affairs (VA) gives notice under the Federal Advisory Committee Act, 5 U.S.C. App. 2, that the Veterans' Rural Health Advisory Committee will hold a virtual meeting Wednesday, April 21, 2021, through Friday, April 23, 2021. The meeting will be accessible through the zoom link https://zoom.us/j/91358888920 and phone number is 1-646-558-8656, Participant Code #91358888920. The meeting will begin at 11:00 a.m. EST and end at 2:30 p.m. EST each day. The meeting sessions are open to the public.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VA Office of Rural Health; and the Committee Chair; as well as presentations by subject matter experts on general rural health care access.

Public comments will be received at 3:00 p.m. on April 23, 2021. Interested parties should contact Ms. Judy Bowie, via email at VRHAC@va.gov, or by mail at 810 Vermont Avenue NW (12POP7), Washington, DC 20420. Individuals wishing to speak are invited to submit a 1-2-page summary of their comment for inclusion in the official meeting record. Any member of the public seeking additional information should contact Ms. Bowie at the phone number or email address noted above.

Dated: March 23, 2021.
LaTonya L. Small,
Federal Advisory Committee Management Office.

[FR Doc. 2021-06350 Filed 3-26-21; 8:45 am]

BILLING CODE 8320-01-P